DEPARTMENT OF HEALTH AND HUMAN SERVICES

Centers for Disease Control and Prevention

[60 Day-14-0941]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Dating Matters: Strategies to Promote Healthy Teen Relationships ™ (0920-0941, Expiration 5/31/2016)—Revision—National Center for Injury Prevention and Control (NCIPC)—Centers for Disease Control and Prevention (CDC).

Background and Brief Description

Dating Matters: Strategies to Promote Healthy Teen Relationships ™ is the Centers for Disease Control and Prevention's new teen dating violence prevention initiative.

To address the gaps in research and practice, CDC has developed Dating Matters, teen dating violence prevention program that includes programming for students, parents, educators, as well as policy development. Dating Matters is based on the current evidence about what works in prevention and focuses on high-risk, urban communities where participants include: Middle school students age 11 to 14 years; middle school parents; brand ambassadors; educators; school leadership; program implementers; community representatives; and local health department representatives in the following communities: Alameda County, California; Baltimore, Maryland; Broward County, Florida; and Chicago, Illinois. In the evaluation, a standard model of TDV prevention (Safe Dates administered in 8th grade) will be compared to a comprehensive model (programs administered in 6th, 7th, and 8th grade as well as parent, educator, policy, and communications interventions).

The primary goal of the current proposal is to amend the available administration formats for the student follow-up survey for the participating youth as they matriculate into high school and to propose the use of monetary gifts for the completion of the student follow-up survey by high school youth to the approved outcome and implementation evaluation of Dating Matters in the four metropolitan cities to determine its feasibility, cost, and effectiveness. Following Dating Matters program participants into high school may prove challenging and without a high response rate, the evaluation design may be compromised. To address such concerns, we are requesting to provide a nominal monetary gift to participants in an amount up to $25. The use of this monetary gift is critical to maintain a high response rate of this high-risk and highly mobile sample. Response rates for the follow-up survey were anticipated to be 90%, however, in the first administration of the survey in 2012/2013, within school year (e.g., Fall to Spring) follow-up with the middle school students proved challenging due to community characteristics—such as high mobility—and as a result we achieved an overall response rate of 73%. Among outgoing 8th graders who will be the first cohort to be surveyed in high school as of Spring 2014, the 2013 follow-up response rate was 56.3%. Efforts to improve response rates for middle school youth are underway, however, we have particular concerns for youth who matriculate from middle school to high school, as they will be in different school buildings and their schools will no longer be participating in the programmatic components of the initiative. Therefore, for these high school youth, additional measures, including monetary gifts and multiple administration formats, will be necessary to engage them in the survey to achieve our target response rate.

Population. The study population includes students in 6th through 12th grades at 44 schools in the four participating sites. At most, schools are expected to have 6 classrooms per grade, with an average of 30 students per classroom yielding a population of 23,760 students (44 schools × 3 grades × 6 classrooms per grade × 30 students per classroom). All student evaluation activities will take place during the school year. The sampling frame for parents, given that we would only include one parent per student, is also 23,760 for the three years of data collection covered by this package. If we assume 40 educators per school, the sampling frame for the educator sample is 1,760.

Students: In each year of data collection, we will recruit 11,880 students (30 students per classroom × 3 classrooms per grade × 3 grades × 44 schools). We assume a 95% participation rate (n = 11,286) for the baseline student survey and 90% participation rate (n = 10,692) at follow-up survey.

Parents: We will recruit a sample of 2,020 parents. We expect that 95% of the 2,020 parents will agree to participate at baseline (n = 1,919) and 90% will participate in the follow-up survey (n = 1,818) parents.

Educators: We will attempt to recruit all educators in each school (44 schools × 40 educators per school = 1,760). We expect a 95% participation rate for an estimated sample of 1,672 educators at baseline and 90% participation rate at follow-up for an estimated sample of 1,584.

School data extractors: We will attempt to recruit one data extractor per 44 schools to extract school data to be used in conjunction with the outcome data for the students. Data extractors in each school will access individual school-level data for those students in their school who consented and participated in the baseline student survey (3 × 4 × 30 × 95% = 342).

Implementation Evaluation

For the student focus groups, we will recruit groups of 10 students per group. Two groups will be held per each of the 4 sites (10 × 2 × 4 = 80 total student participants).

Student implementer focus groups will be organized by site, with two annual focus groups per site with 10 implementers in each group (10 × 2 × 4 = 80 total student program implementer participants).

Communications focus groups will be organized by site with up to four groups per site (4 × 4 × 6 = 96 total student participants).

Parent program implementer focus groups will be organized by site, with two annual focus groups per site with 10 implementers in each group (10 × 2 × 4 = 80 total parent program implementer participants).

School leadership: based on the predicted number of two school leadership per comprehensive school (21 schools), the number of respondents will be 42.

Local Health Department representative: based on the predicted number of four communities/sites and four local health department representatives working on Dating Matters per community, the number of respondents will be 16.

Community Advisory Board Representative: based on the predicted number of 20 community representatives per 4 communities/sites, the number of respondents will be 80.

Parent Program Manager: With a maximum of one parent program manager per community/site, the number of program manager respondents will be 4. It is anticipated that they will receive up to 50 TA requests per year and complete the form 50 times.

Student Program Master Trainer TA Form: With a maximum of 3 master trainers per community. There will be 12 master trainers. It is anticipated that they will receive up to 50 TA requests per year and complete the form 50 times.

Parent Curricula Implementers: It is expected that each school implementing the comprehensive approach (n = 21) will have two implementers (or 42 parent program implementer respondents). Please note that on the burden table the number of respondents is multiplied by the number of sessions in each parent program.

Student Curricula Implementers: based on the predicted number of 20 student curricula implementers per grade per site that will be completing fidelity instruments, the total number of respondents will be 80 per grade (20 × 4).

Brand Ambassadors: The Brand Ambassador Implementation Survey will be provided to each brand ambassador (n = 20) in each community with a maximum of 80 brand ambassadors.

Communications Implementers (“Brand Ambassador Coordinators”): The Communications Campaign Tracking form will be provided to each brand ambassador coordinator in each community. With a maximum of one brand ambassador coordinator per community (n = 4), the feedback form will be collected from a total of 4 brand ambassador coordinators.

Parent Program Participants: The 6th and 7th grade parent satisfaction questionnaires will be completed by parent participating in the parent program in each community. There is a maximum number of parent respondents of 1,890 (18 × 5 × 21) for the 6th grade satisfaction questionnaire and 1,890 for the 7th grade satisfaction questionnaire.

There are no costs to respondents other than their time.

Estimated Annualized Burden
Type of respondent | Form name | Number of respondents | Number of responses per respondent | Average burden per response (hours) | Total burden (hours)
Student Program Participant | Student Outcome Survey Baseline—Attachment D: | 11,286 | 1 | 45/60 | 8,465
Student Program Participant | Student Outcome Survey Follow-up—Attachment E: | 10,692 | 1 | 50/60 | 8,910
School data extractor | School Indicators—Attachment G | 44 | 342 | 15/60 | 3,762
Parent Program Participant | Parent Outcome Baseline Survey—Attachment H | 1,919 | 1 | 1 | 1,919
Parent Program Participant | Parent Outcome Follow-up Survey—Attachment EEEE | 1,818 | 1 | 1 | 1,818
Educator | Educator Outcome Survey (baseline)—Attachment I | 1,672 | 1 | 30/60 | 836
Student Brand ambassador | Brand Ambassador Implementation Survey—Attachment J | 80 | 2 | 20/60 | 53
School leadership | School Leadership Capacity and Readiness Survey—Attachment K | 42 | 1 | 1 | 42
Parent Curricula Implementer | Parent Program Fidelity 6th Grade Session 1-Session 6—Attachment L-Q | 210 | 3 | 15/60 | 158
Parent Curricula Implementer | Parent Program Fidelity 7th Grade Session 1, 3, 5—Attachment R-T | 126 | 3 | 15/60 | 95
Student Curricula Implementer | Student Program Fidelity 6th Grade Session 1-Session 6—Attachment U-Z | 480 | 1 | 15/60 | 120
Student Curricula Implementer | Student Program Fidelity 7th Grade Session 1-Session 7—Attachment AA-GG | 560 | 1 | 15/60 | 140
Student Curricula Implementer | Student Program Fidelity 8th Grade Session 1-Session 10 (comprehensive)—Attachment HH-QQ | 800 | 1 | 15/60 | 200
Communications Coordinator | Communications Campaign Tracking—Attachment RR | 4 | 4 | 20/60 | 5
Local Health Department Representative | Local Health Department Capacity and Readiness—Attachment SS | 16 | 1 | 2 | 32
Student Program Participant | Student participant focus group guide (time spent in focus group)—Attachment ZZ | 80 | 1 | 1.5 | 120
Student Curricula Implementer | Student curricula implementer focus group guide (time spent in focus group)—Attachment AAA | 80 | 1 | 1 | 80
Parent Curricula Implementer | Parent curricula implementer focus group guide (time spent in focus group)—Attachment BBB | 80 | 1 | 1 | 80
Student Curricula Implementer | Safe Dates 8th Grade Session 1-Session 10 (standard)—Attachment CCC-LLL | 800 | 1 | 15/60 | 200
Student Master Trainer | Student program master trainer TA form—Attachment DDDD | 12 | 50 | 10/60 | 100
Educator | Educator Outcome Survey (follow-up)—Attachment IIII | 1,584 | 1 | 30/60 | 792
Community Advisory Board Member | Community Capacity/Readiness Assessment—Attachment JJJJ | 80 | 1 | 1 | 80
Students | Communications Focus Groups—Attachment KKKK | 96 | 1 | 1.5 | 144
Parent Program Manager | Parent Program Manager TA Tracking Form—Attachment LLLL | 4 | 50 | 10/60 | 33
Parent Program Participant | 6th Grade Curricula Parent Satisfaction Questionnaire—Attachment MMMM | 1,890 | 1 | 10/60 | 315
Parent Program Participant | 7th Grade Curricula Parent Satisfaction Questionnaire—Attachment NNNN | 1,890 | 1 | 10/60 | 315
Total |  |  |  |  | 28,814

LeRoy Richardson,
Chief, Information Collection Review Office, Office of Scientific Integrity, Office of the Associate Director for Science, Office of the Director, Centers for Disease Control and Prevention.

[FR Doc. 2014-00586 Filed 1-14-14; 8:45 am]

BILLING CODE 4163-18-P